DEPARTMENT OF THE INTERIOR

National Park Service

Niobrara National Scenic River

AGENCY: National Park Service, Interior.

ACTION: Amended Notice of Intent to prepare an Environmental Impact Statement for the General Management Plan, Niobrara National Scenic River, Nebraska.

SUMMARY: The National Park Service will prepare a General Management Plan (GMP) and an Environmental Impact Statement (EIS) for the Niobrara National Scenic River (hereinafter, “the Park”), Nebraska, in accordance with section 102(2)(C) of the National Environmental Policy Act of 1969 (NEPA), and a court decision invalidating a similar 1996 GMP/EIS and ordering a new one. This notice is being furnished as required by NEPA Regulation 40 CFR 1501.7, and serves to amend the Notice of Intent as published in the Federal Register on February 28, 2000 (65 FR 10542).

To facilitate sound planning and environmental assessment in the preparation of this EIS, the National Park Service intends to both validate information previously acquired for the 1996 GMP/EIS, and obtain suggestions and information from other agencies and the public on several court-driven issues to be addressed in the new EIS. The National Park Service will scope this GMP/EIS via the media, a newsletter, and through a World Wide Web page. Comments and participation in this scoping process are invited.

DATES: A project newsletter is being prepared, which is expected to be ready by the end of May 2000. The newsletter will contain specific information about how to provide input to the scoping phase of this project. Availability of the newsletter will be announced through local and regional media outlets. The newsletter will be sent to all addressees of record in the planning of the park's 1996 GMP/EIS, and to others who request the newsletter. To request a copy of the newsletter and to be added to the project mailing list, contact the park superintendent at 402-336-3970 or by writing to one of the addresses below.

ADDRESSES: Written comments and information should be directed to Superintendent, Niobrara National Scenic River, P.O. Box 591, O'Neill, Nebraska 68763; or by email, niob_gmp@nps.gov.

FOR FURTHER INFORMATION CONTACT: Superintendent, Niobrara National Scenic River, at either of the above addresses or at telephone number 402-336-3970.

SUPPLEMENTARY INFORMATION: Since the original notice of intent was published in February 2000, the United States Court of Appeals for the Eighth Circuit overturned the boundaries for the Niobrara National Scenic Riverway which has been established as part of a 1996 General Management Plan (GMP) for the park. A federal district court had overturned that GMP and associated Environmental Impact Statement (EIS) in a separate ruling. However, the district court ruling had retained the section of the GMP pertaining to the park's boundary. Therefore, the original notice of intent for the current project implied that boundaries were not within the scope of issues that would be addressed in the forthcoming GMP/EIS rewrite. The decision of the Court of Appeals has expanded the scope to include the park boundary.

The broad array of issues identified in the 1996 GMP/EIS, including land ownership, landscape conservation, water resource protection, hunting, fishing, and trapping, and visitor education and protection appear valid but reaffirmation will be sought through scoping. Specific examples of other issues that will be addressed in the GMP are: (1) the extent and manner in which partnerships can and will be employed to achieve management objectives, (2) identify appropriate access and development in the park, particularly balancing growing park use and resource protection; and (3) identity appropriate land protection strategies workable on a predominantly privately owned landscape. Other issues may be added to this list following completion of scoping.

The new GMP will set forth a management concept for the park; establish plans for resource conservation, public use, and development; and identify strategies for resolving issues and achieving management objectives. It is expected that the GMP will guide park management for a period of fifteen to twenty years.

The GMP/EIS will investigate alternatives ranging from no-action to a variety of management approaches designed to guide public use and protect natural and cultural resources.

The environmental review of the GMP for the Niobrara National Scenic River will be conducted in accordance with requirements of NEPA (42 U.S.C. 4321 et seq.), NEPA regulations, and National Park Service procedures and policies for compliance with those regulations.

The National Park Service estimates the draft GMP and draft EIS will be available to the public in early 2001.

Dated: May 8, 2000.
David N. Given,
Acting Regional Director.

[FR Doc. 00-12701 Filed 5-19-00; 8:45 am]

BILLING CODE 4310-70-P